DEPARTMENT OF THE INTERIOR

Fish and Wildlife Service

[10120-1113-0000-C4; FWS-R1-ES-2009-N0028]

Endangered and Threatened Wildlife and Plants; Initiation of 5-Year Reviews of 103 Species in Hawaii

AGENCY: Fish and Wildlife Service, Interior.

ACTION: Notice of review.

SUMMARY: We, the U.S. Fish and Wildlife Service, are initiating 5-year reviews for 103 species in Hawaii under the Endangered Species Act of 1973, as amended (Act). We request any new information on these species that may have a bearing on their classification as endangered or threatened. Based on the results of these 5-year reviews we will determine whether these species are properly classified under the Act.

DATES: To ensure consideration in our review, we are requesting submission of new information no later than May 15, 2009. However, we will continue to accept new information about any listed species at any time.

ADDRESSES: For the species under review, submit information or direct questions to: Field Supervisor, Attention: 5-Year Review, U.S. Fish and Wildlife Service, Pacific Islands Fish and Wildlife Office, 300 Ala Moana Blvd., Room 3-122, Box 50088, Honolulu, HI 96850. Information or questions can also be submitted by e-mail to: pifwo-5yr-review@fws.gov.

FOR FURTHER INFORMATION CONTACT: Marilet Zablan, U.S. Fish and Wildlife Service, Pacific Islands Fish and Wildlife Office (see ADDRESSES), 808-792-9400. Individuals who are hearing impaired or speech impaired may call the Federal Relay Service at (800) 877-8337 for TTY assistance.

SUPPLEMENTARY INFORMATION:

Why Do We Conduct 5-Year Reviews?

Under the Endangered Species Act (Act) (16 U.S.C. 1531 et seq.), we maintain a List of Endangered and Threatened Wildlife and Plants (List) at 50 CFR 17.11 (for animals) and 17.12 (for plants). Section 4(c)(2)(A) of the Act requires that we conduct a review of listed species at least once every 5 years. Then, on the basis of such reviews under section 4(c)(2)(B), we determine whether or not any species should be removed from the List (delisted), or reclassified from endangered to threatened or from threatened to endangered. These actions must be supported by the best scientific and commercial data available. Delisting a species is considered only if such data substantiates that the species is neither endangered nor threatened for one or more of the following reasons: (1) The species is considered extinct; (2) the species is considered to be recovered; and/or (3) the original data available when the species was listed, or the interpretation of such data, were in error (50 CFR 424.11(d)). Any change in Federal classification would require a separate rulemaking process. The regulations in 50 CFR 424.21 require that we publish a notice in the Federal Register announcing those species currently under active review. This notice announces our active review of the 103 species listed in Table 1.

Table 1—Species for Which We Are Initiating a Status Review To Determine if They Are Appropriately Listed Under the U.S. Endangered Species Act
Common name | Scientific name | Status | Where listed | Final listing rule
Animals:
Bat, Hawaiian hoary | Lasiurus cinereus semotus | E | U.S.A. (HI) | 35 FR 16047; 10/13/1970.
Finch, Nihoa | Telespyza ultima | E | U.S.A. (HI) | 32 FR 4001; 03/11/1967.
Goose, Hawaiian (= Nene) | Branta (=Nesochen) sandvicensis | E | U.S.A. (HI) | 32 FR 4001; 03/11/1967.
Honeycreeper, crested | Palmeria dolei | E | U.S.A. (HI) | 32 FR 4001; 03/11/1967.
Parrotbill, Maui | Pseudonestor xanthophrys | E | U.S.A. (HI) | 32 FR 4001; 03/11/1967.
Petrel, Hawaiian dark-rumped | Pterodroma phaeopygia sandwichensis | E | U.S.A. (HI) | 32 FR 4001; 03/11/1967.
Snail, Oahu tree | Achatinella abbreviate | E | U.S.A. (HI) | 46 FR 3178; 01/13/1981.
Snail, Oahu tree | Achatinella apexfulva | E | U.S.A. (HI) | 46 FR 3178; 01/13/1981.
Snail, Oahu tree | Achatinella bellula | E | U.S.A. (HI) | 46 FR 3178; 01/13/1981.
Snail, Oahu tree | Achatinella buddii | E | U.S.A. (HI) | 46 FR 3178; 01/13/1981.
Snail, Oahu tree | Achatinella bulimoides | E | U.S.A. (HI) | 46 FR 3178; 01/13/1981.
Snail, Oahu tree | Achatinella byronii | E | U.S.A. (HI) | 46 FR 3178; 01/13/1981.
Snail, Oahu tree | Achatinella caesia | E | U.S.A. (HI) | 46 FR 3178; 01/13/1981.
Snail, Oahu tree | Achatinella casta | E | U.S.A. (HI) | 46 FR 3178; 01/13/1981.
Snail, Oahu tree | Achatinella cestus | E | U.S.A. (HI) | 46 FR 3178; 01/13/1981.
Snail, Oahu tree | Achatinella concavospira | E | U.S.A. (HI) | 46 FR 3178; 01/13/1981.
Snail, Oahu tree | Achatinella curta | E | U.S.A. (HI) | 46 FR 3178; 01/13/1981.
Snail, Oahu tree | Achatinella decipiens | E | U.S.A. (HI) | 46 FR 3178; 01/13/1981.
Snail, Oahu tree | Achatinella decora | E | U.S.A. (HI) | 46 FR 3178; 01/13/1981.
Snail, Oahu tree | Achatinella dimorpha | E | U.S.A. (HI) | 46 FR 3178; 01/13/1981.
Snail, Oahu tree | Achatinella elegans | E | U.S.A. (HI) | 46 FR 3178; 01/13/1981.
Snail, Oahu tree | Achatinella fulgens | E | U.S.A. (HI) | 46 FR 3178; 01/13/1981.
Snail, Oahu tree | Achatinella fuscobasis | E | U.S.A. (HI) | 46 FR 3178; 01/13/1981.
Snail, Oahu tree | Achatinella juddii | E | U.S.A. (HI) | 46 FR 3178; 01/13/1981.
Snail, Oahu tree | Achatinella juncea | E | U.S.A. (HI) | 46 FR 3178; 01/13/1981.
Snail, Oahu tree | Achatinella lehuiensis | E | U.S.A. (HI) | 46 FR 3178; 01/13/1981.
Snail, Oahu tree | Achatinella leucorraphe | E | U.S.A. (HI) | 46 FR 3178; 01/13/1981.
Snail, Oahu tree | Achatinella lila | E | U.S.A. (HI) | 46 FR 3178; 01/13/1981.
Snail, Oahu tree | Achatinella livida | E | U.S.A. (HI) | 46 FR 3178; 01/13/1981.
Snail, Oahu tree | Achatinella lorata | E | U.S.A. (HI) | 46 FR 3178; 01/13/1981.
Snail, Oahu tree | Achatinella mustelina | E | U.S.A. (HI) | 46 FR 3178; 01/13/1981.
Snail, Oahu tree | Achatinella papyracea | E | U.S.A. (HI) | 46 FR 3178; 01/13/1981.
Snail, Oahu tree | Achatinella phaeozona | E | U.S.A. (HI) | 46 FR 3178; 01/13/1981.
Snail, Oahu tree | Achatinella pulcherrima | E | U.S.A. (HI) | 46 FR 3178; 01/13/1981.
Snail, Oahu tree | Achatinella pupukanioe | E | U.S.A. (HI) | 46 FR 3178; 01/13/1981.
Snail, Oahu tree | Achatinella rosea | E | U.S.A. (HI) | 46 FR 3178; 01/13/1981.
Snail, Oahu tree | Achatinella sowerbyana | E | U.S.A. (HI) | 46 FR 3178; 01/13/1981.
Snail, Oahu tree | Achatinella spaldingi | E | U.S.A. (HI) | 46 FR 3178; 01/13/1981.
Snail, Oahu tree | Achatinella stewartii | E | U.S.A. (HI) | 46 FR 3178; 01/13/1981.
Snail, Oahu tree | Achatinella swiftii | E | U.S.A. (HI) | 46 FR 3178; 01/13/1981.
Snail, Oahu tree | Achatinella taeniolata | E | U.S.A. (HI) | 46 FR 3178; 01/13/1981.
Snail, Oahu tree | Achatinella thaanumi | E | U.S.A. (HI) | 46 FR 3178; 01/13/1981.
Snail, Oahu tree | Achatinella turgida | E | U.S.A. (HI) | 46 FR 3178; 01/13/1981.
Snail, Oahu tree | Achatinella valida | E | U.S.A. (HI) | 46 FR 3178; 01/13/1981.
Snail, Oahu tree | Achatinella viridans | E | U.S.A. (HI) | 46 FR 3178; 01/13/1981.
Snail, Oahu tree | Achatinella vittata | E | U.S.A. (HI) | 46 FR 3178; 01/13/1981.
Snail, Oahu tree | Achatinella vulpina | E | U.S.A. (HI) | 46 FR 3178; 01/13/1981.
Plants:
'Ahinahina | Argyroxiphium sandwicense ssp. macrocephalum | T | U.S.A. (HI) | 57 FR 20772; 05/15/1992.
'Akoko | Chamaesyce kuwaleana | E | U.S.A. (HI) | 56 FR 55770; 10/29/1991.
'Akoko | Chamaesyce rockii | E | U.S.A. (HI) | 61 FR 53089; 10/10/1996.
'Awikiwiki | Canavalia molokaiensis | E | U.S.A. (HI) | 57 FR 46325; 10/08/1992.
'Oha wai | Clermontia oblongifolia ssp. brevipes | E | U.S.A. (HI) | 57 FR 46325; 10/08/1992.
'Oha wai | Clermontia oblongifolia ssp. mauiensis | E | U.S.A. (HI) | 57 FR 20772; 05/15/1992.
'Oha wai | Clermontia samuelii | E | U.S.A. (HI) | 64 FR 48307; 09/03/1999.
'Ohe'ohe | Tetraplasandra gymnocarpa | E | U.S.A. (HI) | 59 FR 14482; 03/28/1994.
Alani | Melicope balloui | E | U.S.A. (HI) | 59 FR 62346; 12/05/1994.
Alani | Melicope ovalis | E | U.S.A. (HI) | 59 FR 62346; 12/05/1994.
Alani | Melicope reflexa | E | U.S.A. (HI) | 57 FR 46325; 10/08/1992.
Alani | Melicope saint-johnii | E | U.S.A. (HI) | 61 FR 53089; 10/10/1996.
Aupaka | Isodendrion longifolium | T | U.S.A. (HI) | 61 FR 53089; 10/10/1996.
Geranium, Hawaiian red-flowered | Geranium arboreum | E | U.S.A. (HI) | 57 FR 20589; 05/13/1992.
Ha'iwale | Cyrtandra crenata | E | U.S.A. (HI) | 59 FR 14482; 03/28/1994.
Ha'iwale | Cyrtandra munroi | E | U.S.A. (HI) | 57 FR 20772; 05/15/1992.
Haha | Cyanea copelandii ssp. haleakalaensis | E | U.S.A. (HI) | 64 FR 48307; 09/03/1999.
Haha | Cyanea glabra | E | U.S.A. (HI) | 64 FR 48307; 09/03/1999.
Haha | Cyanea grimesiana ssp. grimesiana | E | U.S.A. (HI) | 61 FR 53108; 10/10/1996.
Haha | Cyanea humboldtiana | E | U.S.A. (HI) | 61 FR 53089; 10/10/1996.
Haha | Cyanea lobata | E | U.S.A. (HI) | 57 FR 20772; 05/15/1992.
Haha | Cyanea mannii | E | U.S.A. (HI) | 57 FR 46325; 10/08/1992.
Honohono | Haplostachys haplostachya | E | U.S.A. (HI) | 44 FR 62468; 10/30/1979.
Ihi'ihi | Marsilea villosa | E | U.S.A. (HI) | 57 FR 27863; 06/22/1992.
Kauila | Colubrina oppositifolia | E | U.S.A. (HI) | 59 FR 10305; 03/04/1994.
Ko'oko'olau | Bidens micrantha ssp. kalealaha | E | U.S.A. (HI) | 57 FR 20772; 05/15/1992.
Ko'oko'olau | Bidens wiebkei | E | U.S.A. (HI) | 57 FR 46325; 10/08/1992.
Ko'oloa'ula | Abutilon menziesii | E | U.S.A. (HI) | 51 FR 34412; 09/26/1986.
Koki'o ke'oke'o | Hibiscus arnottianus ssp. immaculatus | E | U.S.A. (HI) | 57 FR 46325; 10/08/1992.
Lo'ulu | Pritchardia munroi | E | U.S.A. (HI) | 57 FR 46325; 10/08/1992.
Love grass, Fosberg's | Eragrostis fosbergii | E | U.S.A. (HI) | 61 FR 53089; 10/10/1996.
Nehe | Lipochaeta lobata var. leptophylla | E | U.S.A. (HI) | 56 FR 55770; 10/29/1991.
Nehe | Lipochaeta tenuifolia | E | U.S.A. (HI) | 56 FR 55770; 10/29/1991.
No common name | Abutilon sandwicense | E | U.S.A. (HI) | 56 FR 55770; 10/29/1991.
No common name | Diellia falcata | E | U.S.A. (HI) | 56 FR 55770; 10/29/1991.
No common name | Diellia unisora | E | U.S.A. (HI) | 59 FR 32932; 06/27/1994.
No common name | Gouania hillebrandii | E | U.S.A. (HI) | 49 FR 44753; 11/09/1984.
No common name | Lobelia niihauensis | E | U.S.A. (HI) | 56 FR 55770; 10/29/1991.
No common name | Lobelia oahuensis | E | U.S.A. (HI) | 59 FR 14482; 03/28/1994.
No common name | Lysimachia lydgatei | E | U.S.A. (HI) | 57 FR 20772; 05/15/1992.
No common name | Phyllostegia mannii | E | U.S.A. (HI) | 57 FR 46325; 10/08/1992.
No common name | Sanicula purpurea | E | U.S.A. (HI) | 61 FR 53108; 10/10/1996.
No common name | Schiedea haleakalensis | E | U.S.A. (HI) | 57 FR 20772; 05/15/1992.
No common name | Schiedea hookeri | E | U.S.A. (HI) | 61 FR 53108; 10/10/1996.
No common name | Schiedea lydgatei | E | U.S.A. (HI) | 57 FR 46325; 10/08/1992.
No common name | Schiedea sarmentosa | E | U.S.A. (HI) | 61 FR 53130; 10/10/1996.
No common name | Tetramolopium remyi | E | U.S.A. (HI) | 56 FR 47686; 09/20/1991.
No common name | Tetramolopium rockii | T | U.S.A. (HI) | 57 FR 46325; 10/08/1992.
No common name | Vigna o-wahuensis | E | U.S.A. (HI) | 59 FR 56333; 11/10/1994.
No common name | Viola oahuensis | E | U.S.A. (HI) | 61 FR 53089; 10/10/1996.
Nohoanu | Geranium multiflorum | E | U.S.A. (HI) | 57 FR 20772; 05/15/1992.
Opuhe | Urera kaalae | E | U.S.A. (HI) | 56 FR 55770; 10/29/1991.
Panicgrass, Carter's | Panicum fauriei var. carteri | E | U.S.A. (HI) | 48 FR 46328; 10/12/1983.
Sandalwood, Lanai (='iliahi) | Santalum freycinetianum var. lanaiense | E | U.S.A. (HI) | 51 FR 3182; 01/24/1986.
Wahane | Pritchardia aylmer-robinsonii | E | U.S.A. (HI) | 61 FR 41020; 08/07/1996.
Wawae'iole | Huperzia mannii | E | U.S.A. (HI) | 57 FR 20772; 05/15/1992.

What Information Do We Consider in the Review?

A 5-year review considers all new information available at the time of the review.

In conducting these reviews, we consider the best scientific and commercial data that has become available since the listing determination or most recent status review, such as:

• Species biology including, but not limited to, population trends, distribution, abundance, demographics, and genetics;

• Habitat conditions including, but not limited to, amount, distribution, and suitability;

• Conservation measures that have been implemented that benefit the species;

• Threat status and trends (see five factors under heading “How Do We Determine Whether a Species Is Endangered or Threatened?”); and

• Other new information, data, or corrections including, but not limited to, taxonomic or nomenclatural changes, identification of erroneous information contained in the List, and improved analytical methods.

How Do We Determine Whether a Species Is Endangered or Threatened?

Section 4(a)(1) of the Act requires that we determine whether a species is endangered or threatened based on one or more of the five following factors:

A.The present or threatened destruction, modification, or curtailment of its habitat or range;

B. Overutilization for commercial, recreational, scientific, or educational purposes;

C. Disease or predation;

D. The inadequacy of existing regulatory mechanisms; or

E. Other natural or manmade factors affecting its continued existence.

Our assessment of these factors is required, under section 4(b)(1) of the Act, to be based solely on the best scientific and commercial data available.

What Could Happen as a Result of This Review?

If we find information concerning the 103 species listed in Table 1 indicating that a change in classification may be warranted, we may propose a new rule to: (a) Reclassify the species from threatened to endangered; (b) reclassify the species from endangered to threatened; or (c) remove the species from the List. If we find that a change in classification is not warranted, the species will remain on the List under its current status.

Public Solicitation of New Information

To ensure that these 5-year reviews are complete and based on the best available scientific and commercial information, we solicit new information from the public, governmental agencies, Tribes, the scientific community, environmental entities, industry, and any other interested parties concerning the status of the species.

If you wish to provide information for any species included in these 5-year reviews, submit your comments and materials to the Field Supervisor of the Pacific Islands Fish and Wildlife Office (see ADDRESSES section). Our practice is to make comments, including names and home addresses of respondents, available for public review. Before including your address, phone number, e-mail address, or other personal identifying information in your comment, you should be aware that your entire comment—including your personal identifying information—may be made publicly available at any time. While you can ask us in your comment to withhold your personal identifying information from public review, we cannot guarantee that we will be able to do so.

You may submit information on the species in this notice by U.S. mail, e-mail, or hand-delivery, to the address in the ADDRESSES section above. You may also view information we receive in response to this notice, as well as other public documentations in our files, at the Pacific Islands Fish and Wildlife Office (See ADDRESSES section above) during normal business hours.

Completed and Active Reviews

A list of all species under active 5-year review, for which the Pacific Region of the Service is the lead region, including those we are initiating under this Notice, are available at: http://www.fws.gov/pacific/ecoservices/endangered/recovery/5yearactive.html. Completed 5-year reviews, for which the Pacific Region of the Service is the lead region, are available at: http://www.fws.gov/pacific/ecoservices/endangered/recovery/5yearcomplete.html.

Authority

This document is published under the authority of the Endangered Species Act of 1973, as amended (16 U.S.C. 1531 et seq.).

Dated: February 24, 2009.
Theresa E. Rabot,
Acting Regional Director, Region 1, U.S. Fish and Wildlife Service.

[FR Doc. E9-5523 Filed 3-13-09; 8:45 am]

BILLING CODE 4310-55-P